FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the United States Currency Program Surveys (FR 3054; OMB No. 7100-0332).

DATES: Comments must be submitted on or before September 29, 2025.

ADDRESSES: You may submit comments, identified by FR 3054, by any of the following methods:

• Agency Website: https://www.federalreserve.gov/apps/proposals/. Follow the instructions for submitting comments, including attachments. Preferred Method.

• Mail: Ann E. Misback, Secretary, Board of Governors of the Federal Reserve System, 20th Street and Constitution Avenue NW, Washington, DC 20551.

• Hand Delivery/Courier: Same as mailing address.

• Other Means: publiccomments@frb.gov. You must include the OMB number or the FR number in the subject line of the message.

Comments received are subject to public disclosure. In general, comments received will be made available on the Board's website at https://www.federalreserve.gov/apps/proposals/ without change and will not be modified to remove personal or business information including confidential, contact, or other identifying information. Comments should not include any information such as confidential information that would not be appropriate for public disclosure. Public comments may also be viewed electronically or in person in Room M-4365A, 2001 C St. NW, Washington, DC 20551, between 9 a.m. and 5 p.m. during Federal business weekdays.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/review or may be requested from the agency clearance officer, whose name appears above. On the page displayed at the link above, you can find the supporting information by referencing the collection identifier, FR 3054. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: United States Currency Program Surveys.

Collection identifier: FR 3054.

OMB control number: 7100-0332.

General description of collection: The U.S. Currency Program Surveys are used to obtain information specifically tailored to the Federal Reserve's operational and fiscal agency responsibilities. All collections except FR 3054c are conducted on an ad hoc basis. The Board's current U.S. Currency Program set of information collections, collectively referred to as FR 3054, are comprised of the following: Ad Hoc Currency Surveys (FR 3054a); Currency Quality Sampling Survey (FR 3054b); Currency Quality Survey (FR 3054c); Currency Functionality and Perception Survey (FR 3054d); and Currency Education Usability Survey (FR 3054e).

Proposed revisions: The Board proposes to change the name of the information collection from “Payment Systems Surveys” to “United States Currency Program Surveys” to more accurately describe the effort that the collections support.

The Board also proposes to revise FR 3054a and FR 3054e by splitting both into short-form and long-form collections and proposing implementation of the Short-form Currency Program Surveys (FR 3054f) and the Short-form Currency Education Usability Surveys (FR 3054g). These revisions would allow the four information collections (FR 3054a, FR 3054e, FR 3054f, FR 3054g) to more accurately account for the burden and number of respondents, while gathering the necessary data to support the introduction of a new set of banknotes. Short-form information collection techniques are generally shorter in duration, usually less than an hour, and recruit larger number of respondents, usually over 1,000, and may be conducted through phone or internet surveys. Long-form information collection techniques are generally longer in duration, usually over an hour, and recruit a smaller number of respondents, usually under 1,000, and may be conducted through focus groups or individual interviews. These revisions will more accurately reflect the burden imposed by different collection methods based on how these collections were conducted in previous years.

The Board proposes to decrease the estimated number of respondents for FR 3054a, increase the frequency, increase the average hours per response, and rename the collection from “Ad Hoc Currency Surveys” to “Long-form Currency Program Surveys.” The increased estimated time per response of FR 3054a will allow for more in-depth focus groups and interviews (with a smaller number of respondents) to support and inform the increasing efforts of the Currency Program. FR 3054a will continue to cover the same topics, but will focus on utilizing long-form collection methods, such as focus groups and interviews, while the short-form collection methods will continue as part of a new collection, the proposed FR 3054f.

The Board proposes to correct FR 3054d by decreasing the number of respondents, and increasing the estimated duration to accurately reflect the number and length of meetings held between the Board, FedCash Services, Bureau of Engraving and Printing, and banknote equipment manufacturers. This proposed revision returns FR 3054d to the burden hours that previously existed prior to 2020.

The Board proposes for FR 3054e to increase the estimated average hours per response and rename the collection from “Currency Education Usability Survey” to “Long-form Currency Education Usability Surveys.” The increased estimated time per response of FR 3054e will allow for more in-depth focus groups and interviews to inform the Board's currency education programs. Similar to FR 3054a, FR 3054e would continue to cover the same topics, but would focus on long-form collection methods, while the short-form collection methods would continue as part of a new collection (the proposed FR 3054g).

The Board proposes to establish a new information collection, the “Short-form Currency Program Surveys” (FR 3054f). This new collection will allow the Board to cover the same topics as the revised FR 3054a, but through quicker collection methods with a higher number of respondents.

The Board proposes to establish a second new collection, the “Short-form Currency Education Usability Surveys” (FR 3054g). FR 3054g would cover the same topics as FR 3054e using quicker and broader collection methods.

Frequency: The FR 3054a, FR 3054e, FR 3054f, and FR 3054g are event-generated and may be conducted up to 10 times per year. The FR 3054b is event-generated and maybe be conducted up to 1 time per year. The FR 3054c is conducted 2 times per year. The FR 3054b is event-generated and conducted up to 5 times per year.

Respondents: Financial institutions (including depository institutions, currency exchanges, or central banks), law enforcement, nonfinancial businesses (retailers, banknote equipment manufacturers, or global wholesale bank note dealers), and individuals within the general public.

Total estimated number of respondents: FR 3054a, 400; FR 3054b, 500; FR 3054c, 25; FR 3054d, 1; FR 3054e, 250; FR 3054f, 5,000; FR 3054g, 4,000.

Estimated average hours per response: FR 3054a, 2; FR 3054b. 0.5; FR 3054c, 30; FR 3054d, 30; FR 3054e, 1.5; FR 3054f, 0.5; FR 3054g, 0.5.

Total estimated change in burden: 37,525.

Total estimated annual burden hours: 58,650.

Board of Governors of the Federal Reserve System, July 28, 2025.
Benjamin W. McDonough,
Deputy Secretary and Ombuds of the Board.

[FR Doc. 2025-14462 Filed 7-30-25; 8:45 am]

BILLING CODE 6210-01-P